DEPARTMENT OF THE INTERIOR

National Park Service

[NPS- PWR-PWRO-12232: PPWONRADE2- PMP00EI05.YP0000]

Dog Management Plan, Supplemental Environmental Impact Statement, Golden Gate National Recreation Area, California

AGENCY: National Park Service, Interior.

ACTION: Notice of availability.

SUMMARY: Pursuant to Section 102 (2)(c) of the National Environmental Policy Act of 1969, 42 U.S.C. 4332(2)(C), the National Park Service (NPS) is releasing a Supplemental Environmental Impact Statement for the Dog Management Plan (Plan/SEIS), Golden Gate National Recreation Area (GGNRA), California. Current dog management in the park is based on a number of factors. Areas included in the GGNRA Citizens' Advisory Commission's 1979 pet policy, followed by the park for over twenty years, must be managed in accordance with the June 2, 2005, decision by the U.S. District Court for Northern California (US vs. Barley, 405 F.Supp. 2d 1121) holding that NPS cannot enforce the NPS-wide regulation requiring on leash walking of pets (36 CFR 2.15(a)(2)) in areas where the park had previously allowed off leash use until notice and comment rulemaking under 36 CFR 1.5(b) is completed. A Notice of Proposed Rulemaking will be published for notice and comment after comments on the Plan/SEIS have been received, evaluated, and addressed. A final rule will be published after the final Plan/FEIS has been published and a Record of Decision signed.

The purpose of the Plan/SEIS is to determine the manner and extent of dog use in appropriate areas of the park, provide a clear, enforceable dog management policy, preserve and protect natural and cultural resources and natural processes, provide a variety of visitor experiences, improve visitor and employee safety, and reduce user conflicts.

The Plan/SEIS evaluates the impacts of six alternatives for dog management in 22 areas of GGNRA. The range of alternatives includes the consensus recommendations of the GGNRA Negotiated Rulemaking Committee for Dog Management, the 1979 Pet Policy, 36 CFR 2.15, voice-control dog walking and commercial dog walking. The preferred alternative includes site specific treatments from multiple action alternatives that together allow for a balanced range of visitor experiences, including areas that prohibit dogs, and areas that allow on-leash and voice-control dog walking. It includes the following key elements: The Negotiated Rulemaking Committee's consensus agreements; on-leash and/or voice and sight-control dog walking in multiple specific areas of the park where impacts to sensitive resources and visitor experience are minimized; no dogs in areas of the park where impacts are unacceptable and can not be mitigated; a monitoring-based management strategy measuring compliance in on-leash and voice and sight-control dog walking areas that will provide information for a range of management responses as needed, including further restrictions or elimination of a use where compliance is not able to be achieved by lesser actions; permits for both individual and commercial dog walkers for more than three dogs, with a maximum of six, in limited areas of the park; and the site-specific analysis of Rancho Corral de Tierra as a recently-acquired GGNRA site evaluated under the Plan/SEIS.

DATES: All written comments must be postmarked or transmitted not later than 90 days following publication in the Federal Register by the Environmental Protection Agency of the notice of filing and availability of the Plan/SEIS.

ADDRESSES: Electronic copies of the Plan/SEIS will be available for public review at http://parkplanning.nps.gov/goga. A limited number of printed copies will be available at Park Headquarters, Fort Mason, Building 201, San Francisco, CA. Copies will be available at local libraries in San Mateo, San Francisco and Marin Counties, as well as in Berkeley and Oakland. For further information or to request a copy of the Plan/SEIS, please contact: Shirwin Smith, Management Assistant, Golden Gate National Recreation Area, Fort Mason, Building 201, San Francisco, CA 94123, (415) 561-4947.

SUPPLEMENTARY INFORMATION: The NPS is most interested in comments on the changes between the draft and supplemental EIS, including the following: The addition of new data (including additional law enforcement and visitor use data), additional references, additional information regarding compliance with the Americans with Disabilities Act, changes to the impacts analysis (including additional analysis of potential redistributive effects of opening/closing areas to dog walking), changes to the compliance-based management strategy (now the monitoring-based management strategy) by including natural and cultural resource monitoring and removing automatic triggers and restrictions, evaluation of fencing as a method to minimize dog walking impacts, and relatively minor changes to some site specific changes in the preferred alternative. Additionally, a site recently transferred to GGNRA, Rancho Corral de Tierra, was added to the park sites considered in the range of reasonable alternatives analyzed by the plan/SEIS. Comments submitted on the earlier Plan/draft EIS (DEIS) will continue to be considered and do not need to be resubmitted.

After the EPA's Federal Register notice is published, the NPS will schedule three open-house style public meetings during the comment period. Dates, times, and locations of these meetings will be announced in press releases, email announcements and on the NPS Planning, Environment, and Public Comment (PEPC) Web site for the project at http://parkplanning.nps.gov/goga.

If you wish to comment electronically, you may submit your comments online at the PEPC Web site by visiting http://parkplanning.nps.gov/goga, clicking on open for comment, clicking on Dog Management Plan/EIS, and then clicking on Comment on Document. NPS encourages commenting electronically through PEPC. Note that the deadline for submitting comments online at the PEPC Web site is midnight, Mountain Time (11 p.m. Pacific Time), on the last day of the public comment period. If you wish to submit your written comments in hard copy (e.g. in a letter), you may send them by U.S. Postal Service or other mail delivery service or hand-deliver them to: Frank Dean, General Superintendent, Golden Gate National Recreation Area, Fort Mason, Building 201, San Francisco, CA 94123. Comments will also be accepted during the three open house public meetings. Comments will not be accepted by fax, email, or in any other way than those specified above. Bulk comments in any format (hard copy or electronic) submitted on behalf of others will not be accepted.

Before including your address, phone number, email address, or other personal identifying information in your comment, you should be aware that your entire comment—including your personal identifying information—may be made publicly available at any time. While you can ask us in your comment to withhold your personal identifying information from public review, we cannot guarantee that we will be able to do so.

Because this is a delegated EIS, the official responsible for approval of the final Plan is the Regional Director, Pacific West Region, National Park Service; subsequently the official responsible for implementation of the approved Plan is the General Superintendent, Golden Gate National Recreation Area.

Dated: August 27, 2013.
Christine S. Lehnertz,
Regional Director, Pacific West Region.

[FR Doc. 2013-21726 Filed 9-6-13; 8:45 am]

BILLING CODE 4312-FF-P